FEDERAL COMMUNICATIONS COMMISSION

47 CFR Parts 1 and 54

[CC 96-45; FCC 01-376]

Implementation of Interim Filing Procedures for Filings of Requests for Review; Withdrawal

AGENCY: Federal Communications Commission.

ACTION: Temporary waiver of procedural requirements; withdrawal.

SUMMARY: This document withdraws FR Doc. 02-873 published in the Federal Register of January 25, 2002 (67 FR 3620), regarding Implementation of Interim Filing Procedures for Filings of Requests for Review. Withdrawal is necessary because this item is a duplicate of a document published on January 24, 2002 (67 FR 3441).

FOR FURTHER INFORMATION CONTACT: Peter Trachtenberg, Attorney/Advisor, Common Carrier Bureau, (202) 418-7369.

Federal Communications Commission.
William F. Caton,
Acting Secretary.

[FR Doc. 02-3723 Filed 2-15-02; 8:45 am]

BILLING CODE 6712-01-P